Title 3—

The President

Memorandum of June 29, 2015

Delegation of Authority Pursuant to Section 1035 of the National Defense Authorization Act for Fiscal Year 2013

Memorandum for the Secretary of Defense

By the authority vested in me as President by the Constitution and the laws of the United States of America, including section 301 of title 3, United States Code, I hereby order as follows:

I hereby delegate to the Secretary of Defense the authority to fulfill the certification requirement specified in section 1035 of the National Defense Authorization Act for Fiscal Year 2013 (Public Law 112-239).

Any reference in this memorandum to section 1035 of the National Defense Authorization Act for Fiscal Year 2013 shall be deemed to be a reference to any future provision that is the same or substantially the same provision.

You are authorized and directed to publish this memorandum in the Federal Register.

THE WHITE HOUSE,

Washington, June 29, 2015

[FR Doc. 2015-16499

Filed 7-1-15; 8:45 am]

Billing code 5001-06